FEDERAL MEDIATION AND CONCILIATION SERVICE

Labor-Management Relations Information Collection Requests

AGENCY: Federal Mediation and Conciliation Service.

ACTION: 60-Day Notice and Request for Comments.

SUMMARY: The Federal Mediation and Conciliation Service (FMCS), as part of its continuing effort to reduce paperwork burden of arbitrators and parties that request arbitration services in accordance with the Paperwork Reduction Act of 1995, invites the general public and other Federal Agencies to take this opportunity to comment on the following information collection requests. The information collection requests are FMCS forms: Arbitrator's Report and Fee Statement (Agency Form R-19), Arbitrator's Personal Data Questionnaire (Agency Form R-22), and Request for Arbitration Services (Agency Form R-43). These information collection requests were previously approved by the Office of Management Budget (OMB), and we are requesting a reinstatement without change to the collections. These information collection requests were assigned the OMB control numbers 3076-0001, 3076-0002, and 3076-0003.

DATES: Comments must be submitted on or before July 12, 2011.

ADDRESSES: Submit written comments by mail to the Office of Arbitration Services, Federal Mediation and Conciliation Service, 2100 K Street, NW., Washington, DC 20427 or by contacting the person whose name appears under the section headed FOR FURTHER INFORMATION CONTACT.

Comments may be submitted also by fax at (202) 606-3749 or electronic mail (e-mail) to arbitration@fmcs.gov. All comments must be identified by the appropriate agency form number.

No confidential business information (CBI) should be submitted through e-mail. Information submitted as a comment concerning this document may be claimed confidential by marking any part or all of the information as “CBI”. Information so marked will not be disclosed but a copy of the comment that does contain CBI must be submitted for inclusion in the public record. Information not marked confidential may be disclosed publicly by FMCS without prior notice. All written comments will be available for inspection in Room 704 at the Washington, DC address above from 8:30 a.m. to 4:30 p.m., Monday through Friday, excluding legal holidays.

FOR FURTHER INFORMATION CONTACT: Vella M. Traynham, Director of Arbitration Services, FMCS, 2100 K Street, NW., Washington, DC 20427. Telephone (202) 606-5111; Fax (202) 606-3749.

SUPPLEMENTARY INFORMATION: Copies of each of the agency forms are available from the Office of Arbitration Services by calling, faxing or writing Vella M. Traynham at the address above. Please ask for the form by title and agency form number.

I. Information Collection Requests

FMCS is seeking comments on the following information collection requests contained in FMCS agency forms.

Agency: Federal Mediation and Conciliation Service.

Form Number: OMB No. 3076-0001.

Name of Form: Arbitrator's Personal Data Questionnaire (FMCS form R-22).

Type of Request: Reinstatement of a collection without change in the substance or method of collection.

Affected Entities: Individuals who apply for admission to the FMCS Roster of Arbitrators.

Frequency: Individuals complete this form once, which is at the time of application to the FMCS Roster of Arbitrators.

Abstract: Title II of the Labor Management Relations Act of 1947 (Pub. L. 90-101) as amended in 1959 (Pub. L. 86-257) and 1974 (Pub. L. 93-360), states that it is the labor policy of the United States that “the settlement of issues between employers and employees through collective bargaining may be advanced by making available full and adequate governmental facilities for conciliation, mediation, and voluntary arbitration to aid and encourage employers and representatives of their employees to reach and maintain agreements concerning rates of pay, hours, and working conditions, and to make all reasonable efforts to settle their differences by mutual agreement reached through conferences and collective bargaining or by such methods as may be provided for in any applicable agreement for the settlement of disputes” 29 U.S.C. 201(b). Under its regulations at 29 CFR part 1404, FMCS has established policies and procedures for its arbitration function dealing with all arbitrators listed on the FMCS Roster of Arbitrators, all applicants for listing on the Roster, and all person or parties seeking to obtain from FMCS either names or panels of names of arbitrators listed on the Roster in connection with disputes which are to be submitted to arbitration or fact-finding. FMCS strives to maintain the highest quality of dispute resolution experts on its Roster. To ensure that purpose, it asks all candidates to complete an application form. The purpose of this collection is to gather information about applicants for inclusion in the Roster of Arbitrators. This collection is needed to evaluate applicants and to select among the applicants highly qualified individuals for inclusion on the Roster. Without this collection, FMCS will be unable to maintain or expand its Roster. The respondents are private citizens who make application for appointment to the Roster.

Burden: The number of respondents is approximately 150 individuals per year, which is the approximate number of individuals who request membership on the FMCS Roster. The time required to complete this questionnaire is approximately one hour. Each respondent is required to respond only once per application and to update the information as necessary.

Agency: Federal Mediation and Conciliation Service.

Form Number: OMB No. 3076-0003.

Name of Form: Arbitrator's Report and Fee Statement (FMCS Form R-19).

Type of Request: Reinstatement of a collection without change in the substance or method of collection.

Affected Entities: Individual arbitrators who render decisions under FMCS arbitration policies and procedures.

Frequency: This form is completed each time an arbitrator hears an arbitration case and issues a decision.

Abstract: Pursuant to 29 U.S.C. 171(b) and 29 CFR part 1404, FMCS assumes a responsibility to monitor the work of the arbitrators who serve on its Roster. This is satisfied by requiring the completion and submission of a Report and Fee Statement, which indicates when the arbitration award was rendered, the file number, the company and union, the issues, whether briefs were filed and transcripts taken, if there were any waivers by parties on the date the award was due, and the fees and days for services of the arbitrator. FMCS publishes this information in the agency's annual report, to inform the public about the arbitration services program and certain national trends in arbitration.

Burden: FMCS receives approximately 3,000 responses per year. The form is filled out each time an arbitrator hears a case and the time required is approximately ten minutes. FMCS uses this form to review arbitrator conformance with its fee and expense reporting requirements.

Agency: Federal Mediation and Conciliation Service.

Form Number: OMB No. 3076-0002.

Type of Request: Reinstatement of a collection without change in the substance or method of collection.

Name of Form: Request for Arbitration Panel (FMCS Form R-43).

Affected Entities: Employers and their representatives, and labor unions, their representatives and employees, who request arbitration services.

Frequency: This form is completed each time an employer or labor union requests a panel of arbitrators.

Abstract: Pursuant to 29 U.S.C. 171(b) and 29 CFR part 1404, FMCS offers panels of arbitrators for selection by labor and management to resolve grievances and disagreements arising under their collective bargaining agreements and to deal with fact finding and interest arbitration issues as well. This form is used to obtain information such as the parties' names, addresses, and the type of assistance needed. FMCS uses this information to compile panels, selecting arbitrators based in part on such factors as dispute location and issue expertise. The purpose of this information collection is to facilitate the processing of the parties' request for arbitration assistance. No third party notification or public disclosure burden is associated with this collection.

Burden: The current total annual burden estimate is that FMCS will receive requests from approximately 16,000 respondents per year. The form takes about 10 minutes to complete.

II. Request for Comments

FMCS solicits comments to:

(i) Evaluate whether the proposed collections of information are necessary for the proper performance of the functions of the agency, including whether the information will have practical utility.

(ii) Enhance the accuracy of the agency's estimates of the burden of the proposed collection of information.

(iii) Enhance the quality, utility, and clarity of the information to be collected.

(iv) Minimize the burden of the collections of information on those who are to respond, including the use of appropriate automated, electronic collection technologies or other forms of information technology.

III. The Official Record

The official record is the paper electronic record maintained at the address at the beginning of this document. FMCS will transfer all electronically received comments into printed-paper form as they are received.

List of Subjects

Labor-management relations, employee management relations, and Information collection requests.

Dated: May 9, 2011.
Jeannette Walters-Marquez,
Attorney Advisor.

[FR Doc. 2011-11727 Filed 5-12-11; 8:45 am]

BILLING CODE 6732-01-P